DEPARTMENT OF TRANSPORTATION

Federal Aviation Administration

14 CFR Part 71

[Docket No. FAA-2017-0932; Airspace Docket No. 17-AEA-9]

RIN 2120-AA66

Amendment VOR Federal Airways V-20, V-31, V-33, V-308, and V-433; and Revocation of V-379; in the Vicinity of Nottingham, MD

AGENCY: Federal Aviation Administration (FAA) DOT.

ACTION: Proposed rule; withdrawal.

SUMMARY: The FAA is withdrawing the NPRM published in the Federal Register on October 16, 2017, proposing to amend Very High Frequency (VHF) Omnidirectional Range (VOR) Federal airways V-20, V-31, V-33, V-308, and V-433; and revoke V-379; due to the planned decommissioning of the Nottingham, MD (OTT), VOR/Tactical Air Navigation System (VORTAC).

DATES: Effective as of 0901 UTC, June 30, 2023, the proposed rule published October 16, 2017 (82 FR 48011), is withdrawn.

FOR FURTHER INFORMATION CONTACT: Paul Gallant, Rules and Regulations Group, Office of Policy, Federal Aviation Administration, 800 Independence Avenue SW, Washington, DC 20591; telephone: (202) 267-8783.

SUPPLEMENTARY INFORMATION:

Reason for Withdrawal

The FAA published a notice of proposed rulemaking in the Federal Register for Docket No. FAA-2017-0932 (82 FR 48011; October 16, 2017). The NPRM proposed to amend VOR Federal airways V-20, V-31, V-33, V-308, and V-433; and revoke V-379; due to the planned decommissioning of the Nottingham, MD, VORTAC (OTT) which provides navigation guidance for portions of the affected airways. Interested parties were invited to participate in this rulemaking effort by submitting written comments on the proposal. No comments were received. Subsequent to the NPRM, the Nottingham, MD (OTT), VORTAC decommissioning was delayed, and other airway docket actions rendered this proposal unnecessary.

Conclusion

The FAA determined that the NPRM published on October 16, 2017, is unnecessary. Therefore, the FAA withdraws that NPRM.

Issued in Washington, DC, on June 26, 2023.
Brian Konie,
Acting Manager, Airspace Rules and Regulations.

[FR Doc. 2023-13920 Filed 6-29-23; 8:45 am]

BILLING CODE 4910-13-P